DEPARTMENT OF COMMERCE

International Trade Administration

[A-570-905]

Certain Polyester Staple Fiber From the People's Republic of China: Final Results of the Antidumping Duty Administrative Review; 2012-2013

AGENCY: Enforcement and Compliance, International Trade Administration, Department of Commerce.

SUMMARY: On July 25, 2014, the Department of Commerce (“Department”) published in the Federal Register the Preliminary Results of the sixth administrative review of the antidumping duty order on certain polyester staple fiber (“PSF”) from the People's Republic of China (“PRC”).¹ We gave interested parties an opportunity to comment on the Preliminary Results. Based upon our analysis of the comments and information received, we made changes to the margin calculations for the final results.

¹ See Certain Polyester Staple Fiber from the People's Republic of China: Preliminary Results of the Antidumping Duty Administrative Review; 2012-2013 (July 25, 2014) (“Preliminary Results”) and accompanying Decision Memorandum.

FOR FURTHER INFORMATION CONTACT: Steven Hampton, AD/CVD Operations, Office V, Enforcement and Compliance, International Trade Administration, Department of Commerce, 14th Street and Constitution Avenue NW., Washington, DC 20230; telephone: (202) 482-0116.

SUPPLEMENTARY INFORMATION:

Background

On July 23, 2014, DAK Americas LLC (“Petitioner”) filed comments regarding ministerial errors.² On July 25, 2014, the Department published the Preliminary Results.³ On October 21, 2014, Petitioner and Takayasu Industrial (Jiangyin) Co., Ltd. (“Takayasu”) submitted case briefs. On October 28, 2014, Petitioner and Takayasu submitted rebuttal briefs. On October 30, 2014, the Department fully extended the final results to January 21, 2015.⁴ On November 5, 2014, Takayasu submitted a redacted rebuttal brief per the Department's request.

² See Sixth Administrative Review of Polyester Staple Fiber from the People's Republic of China—Preliminary Results Clerical Error Allegation, dated July 23, 2014. The Department notes that “Polyester Staple Fiberfill” is a misidentification of the proceeding. The Department has corrected this reference throughout this document to the name: “Polyester Staple Fiber.”

³ See Preliminary Results.

⁴ See Memorandum to Christian Marsh, Deputy Assistant Secretary for Antidumping and Countervailing Duty Operations, through James C. Doyle, Director, Office V, Antidumping and Countervailing Duty Operations, from Steven Hampton, International Trade Compliance Analyst, Office V, Antidumping and Countervailing Duty Operations regarding Certain Polyester Staple Fiber from the People's Republic of China: Extension of Deadline for Final Results of Antidumping Duty Administrative Review, dated October 30, 2014.

Scope of the Order

The merchandise subject to the order is certain polyester staple fiber. The product is currently classified under the Harmonized Tariff Schedule of the United States (“HTSUS”) numbers 5503.20.0045 and 5503.20.0065. Although the HTSUS numbers are provided for convenience and customs purposes, the written description of the scope of the order, which is contained in the accompanying Issues and Decision Memorandum (“I&D Memo”) is dispositive.⁵

⁵ See Memorandum to Paul Piquado, Assistant Secretary for Enforcement and Compliance, from Christian Marsh, Deputy Assistant Secretary for Antidumping and Countervailing Duty Operations, regarding Certain Polyester Staple Fiber from the People's Republic of China: Issues and Decision Memorandum for the Final Results of the 2012-2013 Administrative Review issued concurrently with this notice for a complete description of the Scope of the Order (“I&D Memo”).

Analysis of Comments Received

All issues raised in the case and rebuttal briefs by parties in these reviews are addressed in the I&D Memo. A list of the issues which parties raised is attached to this notice as an appendix. The I&D Memo is a public document and is on file in the Central Records Unit (“CRU”), Room 7046 of the main Department of Commerce building, as well as electronically via Enforcement and Compliance's Antidumping and Countervailing Duty Centralized Electronic Service System (“ACCESS”).⁶ ACCESS is available to registered users at http://access.trade.gov and in the CRU. In addition, a complete version of the I&D Memo can be accessed directly on the internet at http://enforcement.trade.gov/frn/index.html. The signed I&D Memo and the electronic versions of the I&D Memo are identical in content.

⁶ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Changes Since the Preliminary Results

Based on a review of the record and comments received from interested parties regarding the Preliminary Results, and for the reasons explained in the I&D Memo, the Department has made the following changes to the margin calculation:

• We revised the calculation of surrogate financial ratios using the financial statements of Angtai Co., Ltd. and Compass Corporation Co., Ltd.⁷

⁷ See I&D Memo, at Comment 1.

• We based the surrogate value for PET Flakes on Thai import statistics recorded in Global Trade Atlas using the product-specific subcategory under the Thai Harmonized Tariff Schedule.⁸

⁸ Id., at Comment 2.

• We included all of the direct materials that Takayasu reported as market-economy purchases and the total freight cost of these purchases in the margin calculation.⁹

⁹ Id., at Comment 8A.

• We revised the inland freight calculation to apply the surrogate value for export movement to the distances reported under foreign inland freight.¹⁰

¹⁰ Id., at Comment 8B.

• We deducted market-economy brokerage and handling expenses from the calculation of total international movement charges.¹¹

¹¹ Id., at Comment 8C.

• We revised the calculation of surrogate freight costs by applying the corrected distances capped at the distance to the closest port.¹²

¹² Id., at Comment 9A.

• We amended the formula to calculate freight expenses.¹³

¹³ Id., at Comment 9B.

• We calculated international freight movement charges using route-specific freight quotes from MAERSK.¹⁴

¹⁴ Id., at Comment 9C.

• We added a VAT variable to the U.S. Sales dataset to allow the program to automatically calculate VAT tax deductions using the Department's default methodology.¹⁵

¹⁵ Id., at Comment 9D.

Final Results of Review

The Department determines that the following weighted-average dumping margin exists for the period June 1, 2012, through May 31, 2013:

Exporter | Weighted- average dumping margin (percent)
Takayasu Industrial (Jiangyin) Co., Ltd | 42.36

Assessment

Pursuant to section 751(a)(2)(A) of the Act and 19 CFR 351.212(b), the Department will determine, and CBP shall assess, antidumping duties on all appropriate entries of subject merchandise in accordance with the final results of this review. The Department intends to issue appropriate assessment instructions directly to CBP 15 days after publication of the final results of this administrative review.

Where the respondent reported reliable entered values, we calculated importer (or customer)-specific ad valorem rates by aggregating the dumping margins calculated for all U.S. sales to each importer (or customer) and dividing this amount by the total entered value of the sales to each importer (or customer).¹⁶ Where the Department calculated a weighted-average dumping margin by dividing the total amount of dumping for reviewed sales to that party by the total sales quantity associated with those transactions, the Department will direct CBP to assess importer-specific assessment rates based on the resulting per-unit rates.¹⁷ Where an importer- (or customer-) specific ad valorem or per-unit rate is greater than de minimis, the Department will instruct CBP to collect the appropriate duties at the time of liquidation.¹⁸ Where an importer- (or customer-) specific ad valorem or per-unit rate is zero or de minimis, the Department will instruct CBP to liquidate appropriate entries without regard to antidumping duties.¹⁹

¹⁶ See 19 CFR 351.212(b)(1).

¹⁷ Id.

¹⁸ Id.

¹⁹ See 19 CFR 351.106(c)(2).

The Department announced a refinement to its assessment practice in non-market economy cases. Pursuant to this refinement in practice, for entries that were not reported in the U.S. sales databases submitted by the company individually examined during this review, the Department will instruct CBP to liquidate such entries at the PRC-Wide rate. Additionally, if the Department determines that an exporter had no shipments of the subject merchandise, any suspended entries that entered under that exporter's case number (i.e., at that exporter's rate) will be liquidated at the PRC-Wide rate.²⁰

²⁰ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporter listed above, the cash deposit rate will be the rate established in the final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of 44.30 percent; and (4) for all non-PRC exporters of subject merchandise which have not received their own rate, the cash deposit rate will be the rate applicable to the PRC exporters that supplied that non-PRC exporter. The deposit requirements shall remain in effect until further notice.

Disclosure

We will disclose the calculations performed within five days of the date of publication of this notice to parties in this proceeding in accordance with 19 CFR 351.224(b).

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: January 21, 2015.
Paul Piquado,
Assistant Secretary for Enforcement and Compliance.

Appendix I—Issues and Decision Memorandum

List of Topics Discussed in the Final Decision Memorandum

Summary

Background

Scope of the Order

Discussion of the Issues

Comment 1: Surrogate Financial Ratios

Comment 2: Surrogate Value for PET Chips & PET Flakes

Comment 3: Surrogate Value for Truck Freight

Comment 4: Surrogate Value for Brokerage & Handling

Comment 5: Surrogate Value for Labor

Comment 6: Value Added Tax

Comment 7: Appropriate Comparison Method

Comment 8: Ministerial Errors

A. Direct Materials

B. Foreign Inland Freight

C. U.S. Brokerage and Handling

Comment 9: Programming Errors

A. Freight Charges—Raw Materials

B. Domestic Movement

C. International Movement

D. VAT Offset

Recommendation

[FR Doc. 2015-01601 Filed 1-27-15; 8:45 am]

BILLING CODE 3510-DS-P